NUCLEAR REGULATORY COMMISSION

[Docket No. 030-12908]

Notice of Finding of No Significant Impact and Availability of Environmental Assessment for License Amendment of Byproduct Material License No. 31-17528-01, Radiac Research Corporation, Brooklyn, NY

I. Introduction

The U.S. Nuclear Regulatory Commission (NRC) is considering the issuance of a license amendment to Radiac Research Corporation's (Licensee or Radiac) for Byproduct Material License No. 31-17528-01, to authorize an increase in possession limits of byproduct and source material for its facility in Brooklyn, New York. The NRC staff has prepared an Environmental Assessment (EA) in support of this action in accordance with the requirements of 10 CFR part 51. The conclusion of the EA is a Finding of No Significant Impact (FONSI) for the proposed licensing action.

II. EA Summary

The purpose of the proposed action is to renew Radiac's Byproduct Materials License No. 31-17528-01 and authorize the increased possession limits the Licensee has requested. The Licensee currently transports prepackaged radioactive waste from its clients' facilities to various disposal sites, and wants to include transport of properly packaged devices containing licensed material, such as irradiators, ‘EXIT’ signs, etc., back to vendors of the devices, other licensees or to disposal sites as an additional service. Such devices may contain up to several thousand curies of licensed material in sealed form. The Licensee needs these increased possession limits in order to supply a competitive service to clients. The Licensee will not store packages containing such devices at its facilities in Brooklyn, New York, because the contents of the packages may exceed the possession limits authorized by its State of New York license. Instead, the Licensee will transfer such packages from the client's facility directly to another licensee or a disposal site.

Radiac's NRC License currently authorizes it to transport radioactive waste that may contain as much as 50 curies of byproduct and source material and as much as 700 grams of special nuclear material. The Licensee initially requested to renew its license based on the procedures and statements contained in its license application dated November 21, 1989. Since there have been changes in regulatory requirements and NRC policy since that date, on May 20, 2002, the NRC requested that the Licensee submit a new application in accordance with current NRC policy and incorporating current regulatory requirements. The Licensee submitted a revised application dated July 31, 2002. That application included a request for an increase in authorized possession limit for byproduct and source material from 50 curies to 1500 curies, and authorization to possess an additional 5000 curies of hydrogen 3 (tritium) and to transport prepacked licensed material from one licensee to another.

III. Finding of No Significant Impact

NRC has prepared the EA (summarized above) in support of the Licensee's application for renewal of its NRC License and the change in possession limits and authorized activities. The increase in risk to the public and workers, and environment from the renewal and increase in possession limits is small and expected doses from routine operations, as well as potential accidents, are well below regulatory limits. Additionally, the increase in the number of shipments will be small. Therefore, NRC has concluded that the environmental impacts from the proposed amendment and renewal are expected to be insignificant and has determined not to prepare an environmental impact statement for the proposed action.

IV. Further Information

The EA and the documents related to this proposed action, including the application for the license amendment and supporting documentation, are available for inspection at NRC's Public Electronic Reading Room at http://www.nrc.gov/reading-rm/adams.html. The ADAMS Accession Number of the EA is ML030940154; the specific documents used in reviewing the action are described in the EA. Questions regarding this action should be directed to Dr. Sattar Lodhi, Nuclear Materials Safety Branch 2, Division of Nuclear Materials Safety, Region I, 475 Allendale Road, King of Prussia, Pennsylvania 19406, telephone (610) 337-5364, fax (610) 337-5269.

Dated at King of Prussia, Pennsylvania, this 4th day of April, 2003.
For the Nuclear Regulatory Commission.
John D. Kinneman,
Chief, Nuclear Materials Safety Branch 2, Division of Nuclear Materials Safety, Region I.

[FR Doc. 03-8899 Filed 4-10-03; 8:45 am]

BILLING CODE 7590-01-P